DEPARTMENT OF THE INTERIOR

Fish and Wildlife Service

[FWS-R5-R-2016-N207; BAC-4333-99]

Silvio O. Conte National Fish and Wildlife Refuge; Final Comprehensive Conservation Plan and Environmental Impact Statement

AGENCY: Fish and Wildlife Service, Interior.

ACTION: Notice of availability; final comprehensive conservation plan and environmental impact statement.

SUMMARY: We, the U.S. Fish and Wildlife Service (Service), announce the availability for review of our final comprehensive conservation plan (CCP) and environmental impact statement (EIS) for Silvio O. Conte National Fish and Wildlife Refuge (Conte NFWR). The CCP/EIS describes how we propose to manage the refuge for the next 15 years.

DATES: The Service's decision on issuance of an the final CCP/EIS will occur no sooner than 30 days after the publication of the U.S. Environmental Protection Agency's (EPA) notice of the final EIS in the Federal Register and will be documented in a Service Record of Decision (ROD).

ADDRESSES: You may view or obtain copies of the final CCP/EIS by any of the following methods. You may also request a copy on CD-ROM and limited hard copies will be available.

Agency Web site: Download a copy of the document at https://www.fws.gov/refuge/Silvio_O_Conte/what_we_do/conservation.html.

Email: Send requests to northeastplanning@fws.gov, and include “Conte NFWR CCP” in the subject line of your email.

U.S. Mail: Nancy McGarigal, Refuge Planner, 300 Westgate Center Drive, Hadley, MA 01035.

Fax: Attention: Nancy McGarigal, 413-253-8468.

To view comments on the final CCP/EIS from the EPA, or for information on EPA's role in the EIS process, see EPA's Role in the EIS Process under SUPPLEMENTARY INFORMATION.

FOR FURTHER INFORMATION CONTACT: Andrew French, Refuge Manager, 413-548-9725 (phone); andrew_french@fws.gov (email).

SUPPLEMENTARY INFORMATION:

Introduction

With this notice, we continue the CCP process for Conte NFWR, which we began by publishing a notice of intent in the Federal Register (71 FR 62006) on October 20, 2006. For more about the initial process and the history of this refuge, please see that notice. On August 18, 2015, we announced the release of the draft CCP/EIS to the public and requested comments in a notice of availability in the Federal Register (80 FR 50023). In addition, EPA published a notice in the Federal Register (80 FR 52273) announcing the draft CCP/EIS on August 28, 2015, as required under section 309 of the Clean Air Act (CAA) (42 U.S.C. 7401 et seq.). We now announce the final CCP/EIS. Under the CAA, EPA also will announce the final CCP/EIS via the Federal Register.

EPA's Role in the EIS Process

The EPA is charged under section 309 of the CAA with reviewing all Federal agencies' EISs and commenting on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

A notice of availability is published at the start of the 45-day public comment period for draft EISs, as well as at the start of the 30-day “wait period” for final EISs. With final EISs, agencies are generally required to wait 30 days before making a decision on a proposed action. For more information, see http://www.epa.gov/compliance/nepa/eisdata.html. You may search for EPA comments on EISs, along with EISs themselves, at https://cdxnodengn.epa.gov/cdx-enepa-public/action/eis/search.

This notice announces the availability of the final CCP/EIS for Conte NFWR in accordance with the National Environmental Policy Act (NEPA) (40 CFR 1506.6(b)). The final CCP/EIS includes a detailed description of the four management alternatives we considered to guide us in managing and administering the refuge for the next 15 years. That document also contains a thorough analysis of impacts predicted from implementing each of the alternatives on the surrounding natural and human environments. We propose that alternative C, the Service-preferred alternative, serve as the foundation for the final, stand-alone CCP. We highlight the modifications we made to alternative C between the draft and final CCP/EIS in Comments, below.

Our next planning step is to complete a record of decision no sooner than 30 days after publication of this notice (40 CFR 1506.10(b)(2)).

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers and the public with a 15-year plan for achieving refuge purposes and goals and contributing to the mission of the National Wildlife Refuge System (NWRS). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Silvio O. Conte NFWR

Conte NFWR was established in 1997 to conserve, protect, and enhance the abundance and diversity of native plant, fish, and wildlife species, and the ecosystems on which they depend throughout the 7.2-million-acre Connecticut River watershed (watershed). Currently, the refuge is comprised of 37,000 acres within parts of the four watershed states of New Hampshire, Vermont, Massachusetts, and Connecticut.

CCP Alternatives

During the scoping phase of the planning process, we identified a variety of major issues based on input from the public, State or Federal agencies, other Service programs, and our planning team. We developed refuge management alternatives and strategies to address these issues; help achieve refuge goals, objectives, and purposes; support our partners' conservation efforts, and support the NWRS mission. Our draft CCP/EIS (80 FR 50023) and final CCP/EIS fully analyze four alternatives for the future management of the refuge: (1) Alternative A, Current Management; (2) Alternative B, Consolidated Stewardship; (3) Alternative C, Enhanced Conservation Connections and Partnerships (Service-preferred Alternative); and (4) Alternative D, Conservation Connections Emphasizing Natural Processes. Alternative A satisfies the NEPA requirement of a “No Action” alternative. Both the draft and final plans identify alternative C as the Service-preferred alternative, although Alternative C has been slightly modified in the final plan in response to public comments, as discussed below. Please refer to the final CCP/EIS for more details on each of the alternatives.

Comments

We solicited comments on the draft CCP/EIS for Conte NFWR from August 18 to November 16, 2015 (80 FR 50023). During this comment period, we held 14 public information meetings in towns across the Connecticut River watershed and four public hearings; one in each of the four states in the watershed. Overall, we received 363 separate written responses and collected 73 oral comments at the public hearings. We also received a petition to ban trapping at the refuge's Nulhegan Basin Division, signed by approximately 2,546 individuals. We evaluated all of the substantive comments we received, and include a summary of those comments, and our responses to them, as appendix O in the final CCP/EIS.

Changes to the Alternative C, the Service's Preferred Alternative

After considering the comments we received on our draft CCP/EIS, we have made several modifications to alternative C, including adding or revising several management strategies. Below we present a brief overview of these changes; a full description of the changes is included in appendix O in the final CCP/EIS.

• Conservation Partnership Areas (CPAs)—We added two CPAs, increased the size of five CPAs, and reduced the size of one CPA.

• Conservation Focus Areas (CFAs)—We updated maps to reflect new refuge acquisitions and an updated conserved lands base, and to incorporate core areas identified in the Connect the Connecticut landscape conservation design. We increased the size of one CFA. Combined total acreage in CFAs increased by 41 acres.

• Land Acquisition Process—We refined our proposal to pursue acquisition of 90 percent of target acreage in CFAs, on average, and 10 percent of target acreage in surrounding CPAs. The total acquisition authority we are seeking (197,337 acres) increased by the 41 acres noted above.

• Public Uses—We emphasize our intent to continue to allow priority public uses on newly acquired lands wherever compatible. We withdrew our proposal to eliminate one section of snowmobile trail on Nulhegan Basin Division. We determined that recreational drone use is not appropriate.

• Habitat Management—We emphasize our intent to develop refuge division-specific habitat management plans with state agency and public involvement.

Alternative C, with these changes, is still our preferred alternative in the final CCP/EIS for Conte NFWR for several reasons. First, alternative C comprises a mix of actions that, in our professional judgment, work best towards achieving the refuge's purposes, vision, and goals, NWRS policies, and the goals of other state and regional conservation plans. Second, we also believe that alternative C most effectively addresses key issues raised during the planning process.

Public Availability of Documents

See ADDRESSES, above.

Next Steps

We will document the final decision in a record of decision, which will be published in the Federal Register after the 30-day “wait period” that begins when EPA announces this final CCP/EIS. For more information, see EPA's Role in the EIS Process.

Dated: December 1, 2016.
Deborah Rocque,
Deputy Regional Director, Northeast Region.

[FR Doc. 2016-30420 Filed 12-15-16; 8:45 am]

BILLING CODE 4333-15-P